ENVIRONMENTAL PROTECTION AGENCY

[EPA-HQ-OPP-2005-0162; FRL-8380-6]

Carbofuran; Notice of Availability of Revised Surface Water Exposure Assessment

AGENCY: Environmental Protection Agency (EPA).

ACTION: Notice.

SUMMARY: This notice announces the availability of EPA's revised surface water exposure assessment for the pesticide carbofuran. This revised assessment reflects the most current soil input parameters for the surface water exposure modeling done for the dietary risk assessment for carbofuran. While the underlying information based on soil type has been updated, the Agency's ultimate risk conclusions have not changed. The new drinking water exposure assessment dated August 20, 2008, entitled “Updated Refinements of the Drinking Water Exposure Assessment for the Use of Carbofuran on Corn and Melons,” is in the carbofuran docket.

FOR FURTHER INFORMATION CONTACT: Jude Andreasen, Special Review and Reregistration Division (7508P), Office of Pesticide Programs, Environmental Protection Agency, 1200 Pennsylvania Ave., NW., Washington, DC 20460-0001; telephone number: (703) 308-9342; fax number: (703) 308-7070; e-mail address: andreasen.jude@epa.gov.

SUPPLEMENTARY INFORMATION:

I. General Information

A. Does this Action Apply to Me?

You may be potentially affected by this action if you are an agricultural producer, food manufacturer, or pesticide manufacturer. Potentially affected entities may include, but are not limited to:

• Crop production (NAICS code 111).

• Animal production (NAICS code 112).

• Food manufacturing (NAICS code 311).

• Pesticide manufacturing (NAICS code 32532).

This listing is not intended to be exhaustive, but rather provides a guide for readers regarding entities likely to be affected by this action. Other types of entities not listed in this unit could also be affected. The North American Industrial Classification System (NAICS) codes have been provided to assist you and others in determining whether this action might apply to certain entities. If you have any questions regarding the applicability of this action to a particular entity, consult the person listed under FOR FURTHER INFORMATION CONTACT.

B. How Can I Get Copies of this Document and Other Related Information?

1. Docket. EPA has established a docket for this action under docket identification (ID) number EPA-HQ-OPP-2005-0162. Publicly available docket materials are available either in the electronic docket at http://www.regulations.gov, or, if only available in hard copy, at the Office of Pesticide Programs (OPP) Regulatory Public Docket in Rm. S-4400, One Potomac Yard (South Bldg.), 2777 S. Crystal Dr., Arlington, VA. The hours of operation of this Docket Facility are from 8:30 a.m. to 4 p.m., Monday through Friday, excluding legal holidays. The Docket Facility telephone number is (703) 305-5805.

2. Electronic access. You may access this Federal Register document electronically through the EPA Internet under the “Federal Register” listings at http://www.epa.gov/fedrgstr.

II. Background

A. What Action is the Agency Taking?

Upon further review of its underlying assessments, the Agency has updated its drinking water exposure assessment for the pesticide carbofuran to reflect the most current soil input parameters for the surface water source drinking water exposure modeling. Soil information for 8 of the 11 scenarios has been updated to more closely resemble soils in the areas where the scenarios for these crops were modeled. Of the 11 scenarios, 2 resulted in concentrations that remained largely unchanged (Minnesota corn and Nebraska corn); and 6 scenarios resulted in concentrations that decreased slightly (Iowa corn, Indiana corn, Kansas corn, Michigan melon, Missouri melon, and New Jersey melon). The remaining 3 scenarios (Illinois corn, Texas corn, and Florida melons) were not modified and remain unchanged. Despite the revisions to certain of the underlying assessments from use of the more recent soil types, the Agency's ultimate risk conclusions regarding carbofuran's overall dietary risks remain unchanged. EPA is providing notice of its revised assessments to allow the public the opportunity to comment on the Agency's revisions during the comment period on its proposed tolerance revocations.

The updated exposure assessment, dated August 20, 2008, entitled “Updated Refinements of the Drinking Water Exposure Assessment for the Use of Carbofuran on Corn and Melons,” is in the carbofuran docket (EPA-HQ-OPP-2005-0162) at http://www.regulations.gov.

B. What is the Agency's Authority for Taking this Action?

21 U.S.C. 346a(e).

List of Subjects

Environmental protection, Agricultural commodities, Pesticides and pests.

Dated: August 22, 2008.
William R. Diamond,
Acting Director, Office of Pesticide Programs.

[FR Doc. E8-20001 Filed 8-28-08; 8:45 am]

BILLING CODE 6560-50-S